DEPARTMENT OF HEALTH AND HUMAN SERVICES

National Institutes of Health

Government-Owned Invention; Availability for Licensing: “Therapeutic Methods to Treat Tumor Cells--Mutated Anthrax Toxin Protective Antigen Proteins That Specifically Target Cells Containing High Amounts of Cell-Surface Metalloproteinases or Plasminogen Activators”

Correction

In notice document 00-1423 appearing on page 3466 in the issue of Friday, January 21, 2000, make the following correction:

In the second column, in the second full paragraph, in the first line, “60/155,061” should read “60/155,961”.

[FR Doc. C0-1423 Filed 2-8-00; 8:45 am]

BILLING CODE 1505-01-D

DEPARTMENT OF HOUSING AND URBAN DEVELOPMENT

48 CFR Parts 2401, 2402, 2403, 2409, 2413, 2414, 2415, 2416, 2419, 2424, 2425, 2426, 2428, 2432, 2433, 2436, 2437, 2439, 2442, 2446, 2451, 2452 and 2453

[Docket No. FR-4115-F-03]

RIN 2435-AA24

HUD Acquisition Regulation; Miscellaneous Revisions

Correction

In rule document 00-532 beginning on page 3572 in the issue of Friday, January 21, 2000, make the following correction:

2432.114 [Corrected]

On page 3573, in the second column, in designated paragraph 9., in 2432.114, in the second line, “had” should read “head”.

[FR Doc. C0-532 Filed 2-8-00; 8:45 am]

BILLING CODE 1505-01-D

SECURITIES AND EXCHANGE COMMISSION

[Release No. 34-42210; File No. SR-MSRB-9910]

Self-Regulatory Organizations; Notice of Filing and Immediate Effectiveness of Proposed Rule Change by the Municipal Securities Rulemaking Board Amending Rule A-4(d), “Action Without a Meeting”

December 9, 1999.

Correction

In notice document 99-32473, beginning on page 70099, in the issue of Wednesday, December 15, 1999, make the following correction:

On page 70099, in the third column, the date line is corrected to read as set forth above.

[FR Doc. C9-32473 Filed 2-8-00; 8:45 am]

BILLING CODE 1505-01-D

SECURITIES AND EXCHANGE COMMISSION

[Release No. 34-42328; File No. SR-OPRA-00-01]

Options Price Reporting Authority; Notice of Filing and Order Granting Accelerated Effectiveness of Amendment to OPRA Plan Adopting a Temporary Capacity Allocation Plan

January 11, 2000.

Correction

In notice document 00-1170 beginning on page 2998, in the issue of Wednesday, January 19, 2000, make the following correction:

On page 2998, in the third column, the date line is corrected to read as set forth above.

[FR Doc. C0-1170 Filed 2-8-00; 8:45 am]

BILLING CODE 1505-01-D

SECURITIES AND EXCHANGE COMMISSION

17 CFR Part 232

[Release Nos. 33-7789; 34-42327; 35-27123; 39-2380; IC-24235]

RIN 3235-AG96

Adoption of Updated EDGAR Filer Manual

Correction

In rule document 00-1123, beginning on page 3123, in the issue of Thursday, January 20, 2000, make the following correction:

On page 3124, in the first column, in footnote 7, in the third line, “omcide” should read “include”.

[FR Doc. C0-1123 Filed 2-8-00; 8:45 am]

BILLING CODE 1505-01-D

DEPARTMENT OF TRANSPORTATION

Federal Aviation Administration

14 CFR Part 39

[Docket No. 97-NM-133-AD; Amendment 39-11536; AD 2000-02-18]

RIN 2120-AA64

Airworthiness Directives; Boeing Model 737-100, -200, -300, -400, and -500 Series Airplanes

Correction

In rule document 00-2085 beginning on page 5238 in the issue of Thursday, February 3, 2000, make the following correction:

§39.13 [Corrected]

On page 5240, in the second column, in §39.13, under Applicability:, in the 5th line, “(P/N) 65-44861-(D)” should read “(P/N) 65-44861-( )”.

[FR Doc. C0-2085 Filed 2-8-00; 8:45 am]

BILLING CODE 1505-01-D